INTERNATIONAL TRADE COMMISSION

[Inv. No. 337-TA-760]

In the Matter of Certain Liquid Crystal Display Devices, Products Containing Same, and Methods for Using the Same; Notice of Investigation

AGENCY: U.S. International Trade Commission.

ACTION: Institution of investigation pursuant to 19 U.S.C. 1337.

SUMMARY: Notice is hereby given that a complaint was filed with the U.S. International Trade Commission on January 24, 2011, under section 337 of the Tariff Act of 1930, as amended, 19 U.S.C. 1337, on behalf of Sharp Corporation of Japan. Letters supplementing the complaint were filed on February 11 and February 14, 2011. The complaint alleges violations of section 337 based upon the importation into the United States, the sale for importation, and the sale within the United States after importation of certain liquid crystal display devices, products containing same, and methods for using the same by reason of infringement of certain claims of U.S. Patent No. 6,879,364 (“the ‘364 patent”); U.S. Patent No. 7,304,626 (“the ‘626 patent”); U.S. Patent No. 7,532,183 (“the ‘183 patent”); U.S. Patent No. 7,283,192 (“the ‘192 patent”); U.S. Patent No. 6,937,300 (“the ‘300 patent”); U.S. Patent No. 7,057,689 (“the ‘689 patent”); and U.S. Patent No. 7,838,881 (“the ‘881 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Bryan F. Moore, Esq., Office of Unfair Import Investigations, U.S. International Trade Commission, telephone (202) 205-2767.

Authority: The authority for institution of this investigation is contained in section 337 of the Tariff Act of 1930, as amended, and in section 210.10 of the Commission's Rules of Practice and Procedure, 19 CFR 210.10 (2010).

Scope of Investigation: Having considered the complaint, the U.S. International Trade Commission, on February 22, 2011, ordered that—

(1) Pursuant to subsection (b) of section 337 of the Tariff Act of 1930, as amended, an investigation be instituted to determine whether there is a violation of subsection (a)(1)(B) of section 337 in the importation into the United States, the sale for importation, or the sale within the United States after importation of certain liquid crystal display devices, products containing same, and methods for using the same that infringe one or more of claims 5-7 of the ‘364 patent; claims 10, 17, and 18 of the ‘626 patent; claims 1-6 of the ‘183 patent; claims 1 and 11 of the ‘192 patent; claim 1 of the ‘300 patent; claims 1-4, 6, 7, 9, 12, 16, 18, 21, 22, 24, 27, 31, and 33 of the ‘689 patent; and claims 1-7 and 10-13 of the “881 patent, and whether an industry in the United States exists as required by subsection (a)(2) of section 337;

(2) For the purpose of the investigation so instituted, the following are hereby named as parties upon which this notice of investigation shall be served:

(a) The complainant is: Sharp Corporation, 22-22 Nagaike-cho, Abeno-ku, Osaka 545-8522, Japan.

(b) The respondents are the following entities alleged to be in violation of section 337, and are the parties upon which the complaint is to be served:

AU Optronics Corp., No. 1 Li-Hsin Road 2, Hsinchu Science Park, Hsinchu 300, Taiwan.

Au Optronics Corporation America, 9720 Cypresswood Drive, Suite 241, Houston, TX 77070.

BenQ America Corp., 15375 Barranca Parkway, Suite A-205, Irvine, CA 92618.

BenQ Corporation, 16 Jihu Road, Neihu, Taipei 114, Taiwan.

Haier America Trading LLC, 1356 Broadway, New York, NY 10018.

Haier Group Company, 1 Haier Road, Hi-Tech Zone, Qingdao 266101, China.

LG Electronics Inc., LG Twin Towers 20, Yoido-dong, Youngdungpo-gu, Seoul 150-721, Korea.

LG Electronics U.S.A., Inc., 1000 Sylvan Avenue, Englewood Cliffs, NJ 07632.

SANYO Electric Co., Ltd., 5-5, Keihan-Hondori 2-chome, Moriguchi City, Osaka 570-8677, Japan.

SANYO North America Corporation, 2055 SANYO Avenue, San Diego, CA 92154.

TCL Corporation, TCL Industrial Tower, No. 6 South Eling Road, Huizhou, Guangdong Province 516001, China.

TTE Technology, Inc., d/b/a TCL America, 5541 West 74th Street, Indianapolis, IN 46268.

VIZIO, Inc., 39 Tesla, Irvine, CA 92618.

(c) The Commission investigative attorney, party to this investigation, is Bryan F. Moore, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 24, 2011.
William R. Bishop,
Meetings and Hearings Coordinator.

[FR Doc. 2011-4585 Filed 3-1-11; 8:45 am]

BILLING CODE 7020-02-P